DEPARTMENT OF COMMERCE

International Trade Administration

[A-489-829]

Steel Concrete Reinforcing Bar From the Republic of Turkey: Final Results of Antidumping Duty Administrative Review and Final Determination of No-Shipments; 2019-2020

AGENCY: Enforcement and Compliance, International Trade Administration, Department of Commerce.

SUMMARY: The Department of Commerce (Commerce) determines that producers or exporters of steel concrete reinforcing bar (rebar) from the Republic of Turkey (Turkey) subject to this review made sales of subject merchandise at less than normal value during the period of review (POR) July 1, 2019, through June 30, 2020.

DATES: Applicable February 8, 2022.

FOR FURTHER INFORMATION CONTACT: Robert Copyak or Jose Rivera, AD/CVD Operations, Office VII, Enforcement and Compliance, International Trade Administration, U.S. Department of Commerce, 1401 Constitution Avenue NW, Washington, DC 20230; telephone: (202) 482-3642 or (202) 482-0842, respectively.

SUPPLEMENTARY INFORMATION:

Background

On August 6, 2021, we published the preliminary results of this administrative review and invited interest parties to comment.¹ These final results cover eight companies for which an administrative review was initiated and not rescinded.² For a complete description of the events that followed the Preliminary Results, see the Issues and Decision Memorandum.³ Commerce conducted this review in accordance with section 751(a) of the Tariff Act of 1930, as amended (the Act).

¹ See Steel Concrete Reinforcing Bar from the Republic of Turkey: Preliminary Results of Antidumping Duty Administrative Review and Preliminary Determination of No-Shipments; 2019-2020, 86 FR 43181 (August 6, 2021) (Preliminary Results).

² On September 3, 2020, Commerce published a notice of initiation listing nine companies. See Initiation of Antidumping and Countervailing Duty Administrative Reviews, 85 FR 54983 (September 3, 2020) (Initiation Notice). Kaptan Demir is being collapsed with Kaptan Metal Dis Ticaret Ve Nakliyat A.S (collectively, Kaptan) and Colakoglu Dis Ticaret A.S. is being collapsed with Colakoglu Metal (collectively, Colakoglu) such that they are treated as single entities. Habas Sinai ve Tibbi Gazlar Istihsal Endüstrisi A.S. had no shipments during the POR, as discussed below in the “Final Determination of No Shipments” section.

³ See Memorandum, “Issues and Decision Memorandum for the Final Results of the Administrative Review of the Antidumping Duty Order on Steel Concrete Reinforcing Bar from Turkey, 2019-2020,” dated concurrently with, and hereby adopted by, this notice (Issues and Decision Memorandum).

Scope of the Order ⁴

⁴ See Steel Concrete Reinforcing Bar from the Republic of Turkey and Japan: Amended Final Affirmative Antidumping Duty Determination for the Republic of Turkey and Antidumping Duty Orders, 82 FR 32532 (July 14, 2017), as amended, Steel Concrete Reinforcing Bar from the Republic of Turkey: Notice of Court Decision Not in Harmony With the Amended Final Determination in the Less-Than-Fair-Value Investigation; Notice of Amended Final Determination, 87 FR 934 (January 22, 2022) (Order).

The product covered by the Order is steel concrete reinforcing bar from Turkey. For a full description of the scope, see the Issues and Decision Memorandum.⁵

⁵ See Issues and Decision Memorandum.

Analysis of Comments Received

We addressed all issues raised in the case and rebuttal briefs in the Issues and Decision Memorandum. A list of these issues discussed in the Issues and Decision Memorandum is attached in an appendix to this notice. The Issues and Decision Memorandum is a public document and is available electronically via Enforcement and Compliance's Antidumping and Countervailing Duty Centralized Electronic Services System (ACCESS). ACCESS is available to registered users at http://access.trade.gov. In addition, a complete version of the Issues and Decision Memorandum can be accessed directly at https://access.trade.gov/public/FRNoticesListLayout.aspx.

Changes Since the Preliminary Results

Based on our analysis of the comments received from interested parties, a review of the record, and for the reasons explained in the Issues and Decision Memorandum, we made changes to Kaptan Demir's margin calculations. We did not make changes to Colakoglu's margin.

Final Determination of No Shipments

For the Preliminary Results, we found that Habas Sinai ve Tibbi Gazlar Istihsal Endüstrisi A.S (Habas) did not have any shipments of subject merchandise during the POR. No parties commented on this preliminary determination. For the final results of the review, we continue to find that Habas made no shipments of subject merchandise during the POR.

Final Results of the Review

We determine that the following weighted-average dumping margins exist for the period July 1, 2019, through June 30, 2020:

⁶ As noted above, for the purposes of these final results, we are collapsing Colakoglu Metalurji A. S. with Colakoglu Dis Ticaret A.S. and Kaptan Demir with Kaptan Metal Dis Ticaret Ve Nakliyat A.S. and treating them as single entities; see Issues and Decision Memorandum.

⁷ This rate is based on the rates for the respondents that were selected for individual review, excluding rates that are zero, de minimis, or based entirely on facts available. See section 735(c)(5)(A) of the Act.

Producers/exporters ⁶ | Weighted-average dumping margin (percent)
Colakoglu Metalurji A.S./Colakoglu Dis Ticaret A.S | 0.00
Kaptan Demir Celik Endüstrisi ve Ticaret A.S./Kaptan Metal Dis Ticaret Ve Nakliyat A.S | 1.02
Review-Specific Rate Applicable to the Following Companies: ⁷
Icdas Celik Enerji Tersane ve Ulasim Sanayi A.S | 1.02
Kroman Celik Sanayi A.S | 1.02
Yücel Boru Ithalat-Ihracat ve Pazarlama A.Ş | 1.02
Diler Dis Ticaret A.S | 1.02

Rates for Non-Selected Companies

For the rate for non-selected respondents in an administrative review, generally, Commerce looks to section 735(c)(5) of the Act, which provides instructions for calculating the all-others rate in a market economy investigation. Under section 735(c)(5)(A) of the Act, the all-others rate is normally “an amount equal to the weighted-average of the estimated weighted-average dumping margins established for exporters and producers individually investigated, excluding any zero or de minimis margins, and any margins determined entirely {on the basis of facts available}.” In this segment of the proceeding, we calculated a margin for Kaptan Demir that was not zero, de minimis, or based on facts available, whereas, for Colakoglu, we calculated a margin that was zero. Accordingly, Commerce is assigning Colakoglu's rate of 1.02 percent to companies not selected for individual examination.

Disclosure

Commerce intends to disclose the calculations performed for these final results within five days of the date of publication of this notice in the Federal Register, in accordance with 19 CFR 351.224(b).

Assessment Rates

Pursuant to section 751(a)(2)(C) of the Act and 19 CFR 351.212(b), Commerce shall determine, and U.S. Customs and Border Protection (CBP) shall assess, antidumping duties on all appropriate entries of subject merchandise in accordance with the final results of this review.⁸ In accordance with 19 CFR 351.212(b)(1), Commerce calculated an importer-specific ad valorem antidumping assessment rate for Kaptan Demir that is not zero or de minimis, and will instruct CBP to assess antidumping duties on all appropriate entries covered by this review.

⁸ See Antidumping Proceeding: Calculation of the Weighted-Average Dumping Margin and Assessment Rate in Certain Antidumping Duty Proceedings; Final Modification, 77 FR 8101 (February 14, 2012).

Commerce will also instruct CBP to apply an ad valorem assessment rate of 1.02 percent to all entries of subject merchandise during the POR which were produced and/or exported by Icdas Celik Enerji Tersane ve Ulasim Sanayi A.S., Kroman Celik Sanayi A.S., Yücel Boru Ithalat-Ihracat ve Pazarlama A.Ş., and Diler Dis Ticaret A.S. In addition, we continue to find that Habas had no shipments during the POR. Accordingly, consistent with Commerce's practice, we intend to instruct CBP to liquidate any existing entries of merchandise produced by Habas, but exported by other parties, at the rate for the intermediate reseller, if available, or at the all-others rate.⁹

⁹ See Antidumping and Countervailing Duty Proceedings: Assessment of Antidumping Duties, 68 FR 23954 (May 6, 2003).

Consistent with Commerce's assessment practice, for entries of subject merchandise during the POR produced by Kaptan Demir for which it did not know that the merchandise was destined for the United States, we will instruct CBP to liquidate unreviewed entries at the all-others rate if there is no rate for the intermediate company(ies) involved in the transaction.¹⁰

¹⁰ Id.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective for all shipments of the subject merchandise entered, or withdrawn from warehouse, for consumption on or after the publication date of the final results of this administrative review, as provided by section 751(a)(2)(C) of the Act: (1) The cash deposit rate for the companies under review will be the rate established in the final results of this review (except, if the ad valorem rate is de minimis, then the cash deposit rate will be zero); (2) for previously reviewed or investigated companies not covered in this review, the cash deposit rate will continue to be the company-specific rate published for the most recently-completed segment of this proceeding in which the company was reviewed; (3) if the exporter is not a firm covered in this review, a prior review, or the original investigation, but the producer is, the cash deposit rate will be the rate established for the most recently-completed segment of this proceeding for the producer of subject merchandise; and (4) the cash deposit rate for all other manufacturers or exporters will continue to be 3.90 percent, the all-others rate established in the investigation.¹¹ These cash deposit requirements, when imposed, shall remain in effect until further notice.

¹¹ See Order, 87 FR 935.

Notification to Importers

This notice serves as final reminder to importers of their responsibility under 19 CFR 351.402(f)(2) to file a certificate regarding the reimbursement of antidumping duties prior to liquidation of the relevant entries during this review period. Failure to comply with this requirement could result in the presumption that reimbursement of antidumping duties occurred and the subsequent assessment of doubled antidumping duties.

Administrative Protective Order

This notice also serves as the only reminder to parties subject to administrative protective order (APO) of their responsibility concerning the return or destruction of proprietary information disclosed under the APO in accordance with 19 CFR 351.305(a)(3). Timely written notification of the return or destruction of APO materials or conversion to judicial protective order is hereby requested. Failure to comply with the regulations and terms of an APO is a sanctionable violation.

Notification to Interested Parties

We are issuing and publishing these final results in accordance with sections 751(a)(1) and 777(i)(1) of the Act, and 19 CFR 351.213(h) and 351.221(b)(5).

Dated: February 2, 2022.
Lisa W. Wang,
Assistant Secretary for Enforcement and Compliance.

Appendix—List of Topics Discussed in the Issues and Decision Memorandum

I. Summary

II. Background

III. Scope of the Order

IV. Companies not Selected for Individual Examination

V. Final Determination of no Shipments

VI. Affiliation and Single Entities

VII. Changes Since the Preliminary Results

VIII. Discussion of the Issues

Comment 1: Whether Commerce Should Accept Colakoglu's Verification Exhibits

Comment 2: Whether Commerce Should Deny Colakoglu's Duty Drawback Adjustment

Comment 3: Whether Commerce Should Grant the Turkish Respondents a Full Duty Drawback Adjustment

Comment 4: Whether Commerce Should Use Contract Date for Kaptan Demir's U.S. Date of Sale

Comment 5: Whether Section 232 Duties Should be Deducted from Export Price

Comment 6: Whether Commerce Should Reclassify Kaptan Demir's Claimed Levels of Trade

Comment 7: Whether Commerce Should Adjust the Value of Kaptan Demir's Scrap and Defective Merchandise

Comment 8: Whether Commerce Should Adjust Kaptan Demir's TOTCOM for Idle Asset Expenses

Comment 9: Whether Commerce Should Treat INTNFR2U as a Movement Expense or Commission Expense

Comment 10: Whether Commerce Should Permit an Offset for Kaptan Demir's Short Term Deposit Income

IX. Recommendation

[FR Doc. 2022-02638 Filed 2-7-22; 8:45 am]

BILLING CODE 3510-DS-P